FEDERAL ELECTION COMMISSION

Sunshine Act Meeting

AGENCY: Federal Election Commission

DATE AND TIME: Wednesday, June 21, 2017 at 10:00 a.m. and its Continuation at the Conclusion of the Open Meeting on June 22, 2017.

Place: 999 E Street NW., Washington, DC.

STATUS: This Meeting Will be Closed to the Public.

Items To Be Discussed:

Compliance matters pursuant to 52 U.S.C. 30109.

Information the premature disclosure of which would be likely to have a considerable adverse effect on the implementation of a proposed Commission action.

* * * * *

PERSON TO CONTACT FOR INFORMATION: Judith Ingram, Press Officer, Telephone: (202) 694-1220.

Dayna C. Brown,
Secretary and Clerk of the Commission.

[FR Doc. 2017-12745 Filed 6-14-17; 4:45 pm]

BILLING CODE 6715-01-P